DEPARTMENT OF THE TREASURY

Treasury Advisory Committee on International Child Labor Enforcement

AGENCY: Department Offices, Treasury.

ACTION: Notice of meeting.

SUMMARY: This notice announces the date, time, and location for the fourth meeting of the first term of the Committee and the provisional agenda for consideration by the Committee.

DATES: The next meeting of the Treasury Advisory Committee on International Child Labor Enforcement will be held on Friday April 7, 2000, at 9:30 a.m. in the State Room of the Governor's House Hotel, 1615 Rhode Island Avenue, NW, Washington, DC 20036. Tel.: (202) 296-2100 or 800-821-4367. The duration of the meeting will be approximately three and a half hours.

FOR FURTHER INFORMATION CONTACT: Dennis M. O'Connell, Director, Office of Tariff and Trade Affairs, Office of the Under Secretary (Enforcement), Room 4004, Department of the Treasury, 1500 Pennsylvania Avenue, NW, Washington, DC 20220. Tel.:(202) 622-0220. Final meeting details, including the meeting time, location, and agenda, can be confirmed by contacting the above number one week prior to the meeting date.

SUPPLEMENTARY INFORMATION:

Agenda

At the April 7, 2000 session, the Committee is expected to pursue the following agenda. This provisional agenda may be modified prior to the meeting.

1. Welcome and introductory remarks: Chairperson Elisabeth A. Bresee, Assistant Secretary (Enforcement), Raymond W. Kelly, Commissioner of Customs

2. Secretary's remarks: The Honorable Lawrence H. Summers, Secretary of the Treasury

3. White House perspective and review of budget initiatives

4. U.S. Customs Service Update

5. Business Outreach Subcommittee: status report and discussion of forced and indentured child labor “red flags”

6. Industry code briefing: Fair Labor Association

7. The role of verification firms

The meting is open to the public; however, participation in the Committee's deliberations is limited to private sector and ex officio Committee members, invited speakers, and Customs and Treasury Department staff. A person other than an Advisory Committee member who wishes to attend the meeting should give advance notice by contacting Theresa Manning at (202) 622-0220, no later than March 31, 2000.

Dated: March 17, 2000.
John P. Simpson,
Deputy Assistant Secretary (Regulatory, Tariff, and Trade Enforcement).

[FR Doc. 00-7135 Filed 3-22-00; 8:45 am]

BILLING CODE 4810-25-M